ENVIRONMENTAL PROTECTION AGENCY

40 CFR Part 52

[EPA-R04-OAR-2015-0361; FRL-9946-81-Region 4]

Air Plan Approval; Florida; Regional Haze Progress Report

AGENCY: Environmental Protection Agency (EPA).

ACTION: Proposed rule.

SUMMARY: The Environmental Protection Agency (EPA) is proposing to approve a State Implementation Plan (SIP) revision submitted by the State of Florida through the Florida Department of Environmental Protection (FDEP) on March 10, 2015. Florida's March 10, 2015, SIP revision (Progress Report) addresses requirements of the Clean Air Act (CAA or Act) and EPA's rules that require states to submit periodic reports describing progress towards reasonable progress goals (RPGs) established for regional haze and a determination of the adequacy of a state's existing SIP addressing regional haze (regional haze plan). EPA is proposing to approve Florida's Progress Report on the basis that it addresses the progress report and adequacy determination requirements for the first implementation period for regional haze.

DATES: Comments must be received on or before June 23, 2016.

ADDRESSES: Submit your comments, identified by Docket ID No. EPA-R04-OAR-2015-0361 at http://www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, the full EPA public comment policy, information about CBI or multimedia submissions, and general guidance on making effective comments, please visit http://www2.epa.gov/dockets/commenting-epa-dockets.

FOR FURTHER INFORMATION CONTACT: Sean Lakeman, Air Regulatory Management Section, Air Planning and Implementation Branch, Air, Pesticides and Toxics Management Division, U.S. Environmental Protection Agency, Region 4, 61 Forsyth Street, SW., Atlanta, Georgia 30303-8960. Mr. Lakeman can be reached by phone at (404) 562-9043 and via electronic mail at lakeman.sean@epa.gov.

SUPPLEMENTARY INFORMATION:

I. Background

Under the Regional Haze Rule,¹ each state is required to submit a progress report in the form of a SIP revision every five years that evaluates progress towards the RPGs for each mandatory Class I Federal area (also referred to as Class I area in this rulemaking) within the state and for each mandatory Class I Federal area outside the state which may be affected by emissions from within the state. See 40 CFR 51.308(g). Each state is also required to submit, at the same time as the progress report, a determination of the adequacy of the state's existing regional haze plan. See 40 CFR 51.308(h). The first progress report is due five years after submittal of the initial regional haze plan. On March 19, 2010, FDEP submitted the State's first regional haze plan in accordance with 40 CFR 51.308(b).²

¹ 40 CFR part 51, subpart P.

² On August 29, 2013, EPA fully approved Florida's regional haze plan (as amended on August 31, 2010, and September 17, 2012). See 78 FR 53250.

On March 10, 2015, FDEP submitted its regional haze progress report, reporting progress made in the first implementation period towards RPGs for Class I areas in the State and for Class I areas outside the State that are affected by emissions from sources within Florida. This submittal also includes a negative declaration pursuant to 40 CFR 51.308(h)(1) that the State's regional haze plan requires no substantive revision to achieve the established regional haze visibility improvement goals for 2018. EPA is proposing to approve Florida's progress report on the basis that it satisfies the requirements of 40 CFR 51.308(g) and 51.308(h).

II. What are the requirements for the regional haze progress report and adequacy determinations?

A. Regional Haze Progress Report

Under 40 CFR 51.308(g), states must submit a regional haze progress report as a SIP revision every five years and must address, at a minimum, the seven elements found in 40 CFR 51.308(g). As described in further detail in section III below, 40 CFR 51.308(g) requires: (1) A description of the status of measures in the approved regional haze plan; (2) a summary of emissions reductions achieved; (3) an assessment of visibility conditions for each Class I area in the state; (4) an analysis of changes in emissions from sources and activities within the state; (5) an assessment of any significant changes in anthropogenic emissions within or outside the state that have limited or impeded progress in Class I areas impacted by the state's sources; (6) an assessment of the sufficiency of the approved regional haze plan; and (7) a review of the state's visibility monitoring strategy.

B. Adequacy Determinations of the Current Regional Haze Plan

Under 40 CFR 51.308(h), states are required to submit, at the same time as the progress report, a determination of the adequacy of their existing regional haze plan and to take one of four possible actions based on information in the progress report. As described in further detail in section III below, 40 CFR 51.308(h) requires states to: (1) Submit a negative declaration to EPA that no further substantive revision to the state's existing regional haze plan is needed; (2) provide notification to EPA (and to other state(s) that participated in the regional planning process) if the state determines that its existing regional haze plan is or may be inadequate to ensure reasonable progress at one or more Class I areas due to emissions from sources in other state(s) that participated in the regional planning process, and collaborate with these other state(s) to develop additional strategies to address deficiencies; (3) provide notification with supporting information to EPA if the state determines that its existing regional haze plan is or may be inadequate to ensure reasonable progress at one or more Class I areas due to emissions from sources in another country; or (4) revise its regional haze plan to address deficiencies within one year if the state determines that its existing regional haze plan is or may be inadequate to ensure reasonable progress in one or more Class I areas due to emissions from sources within the state.

III. What is EPA's analysis of Florida's regional haze progress report and adequacy determination?

On March 10, 2015, FDEP submitted a revision to Florida's regional haze plan to address progress made towards the RPGs for Class I areas in the State and for Class I areas outside the State that are affected by emissions from sources within Florida. This submittal also includes a determination of the adequacy of the State's existing regional haze plan. Florida has three mandatory Class I areas within its borders: Everglades National Park, Chassahowitzka Wilderness Area, and St. Marks Wilderness Area. In Florida's regional haze plan, the State also determined that emissions sources located in Florida may have significant sulfate visibility impacts on the following Class I areas in neighboring states: Okefenokee Wilderness Area and Wolf Island Wilderness Area in Georgia, and Breton Wilderness Area in Louisiana.

A. Regional Haze Progress Report

The following sections summarize: (1) Each of the seven elements that must be addressed by a progress report under 40 CFR 51.308(g); (2) how Florida's Progress Report addressed each element; and (3) EPA's analysis and proposed determination as to whether the State satisfied each element.

1. Status of Control Measures

40 CFR 51.308(g)(1) requires a description of the status of implementation of all measures included in the regional haze plan for achieving RPGs for Class I areas both within and outside the state.

The State evaluated the status of all measures included in its regional haze plan in accordance with 40 CFR 51.308(g)(1). Specifically, in its Progress Report, Florida summarizes the status of the emissions reduction measures that were included in the final iteration of the Visibility Improvement State and Tribal Association of the Southeast (VISTAS) regional haze emissions inventory and RPG modeling used by the State in developing its regional haze plan. These measures include, among other things, applicable federal programs (e.g., mobile source rules, Maximum Achievable Control Technology (MACT) standards), federal and state consent agreements, and federal and state control strategies for electric generating units (EGUs). The State also addresses the status of Best Available Retrofit Technology (BART) and reasonable progress controls included in the regional haze plan and discusses the status of several measures that were not included in the final VISTAS emissions inventory and were not relied upon in the initial regional haze plan to meet RPGs. The State notes that the emissions reductions from these recent measures will help ensure Class I areas impacted by Florida sources achieve their RPGs. In aggregate, as noted in sections III.A.2 and III.A.6 of this notice, the emissions reductions from the identified measures are expected to exceed the emissions projections in Florida's regional haze plan.

In its regional haze plan, Florida identified sulfur dioxide (SO2) emissions from coal-fired EGUs as a key contributor to regional haze in the VISTAS region, with the EGU sector as a major contributor to visibility impairment at all Class I areas in the VISTAS region. The State's Progress Report provides additional information on EGU control strategies and the status of existing and future expected controls for EGUs in Florida, with updated actual SO2 emissions data for the years 2007-2013.

EPA proposes to find that Florida's analysis adequately addresses 40 CFR 51.308(g)(1). The State documents the implementation status of measures from its regional haze plan in addition to describing additional measures not originally accounted for in the final VISTAS emissions inventory that came into effect since the VISTAS analyses for the regional haze plan were completed.

2. Emissions Reductions and Progress

40 CFR 51.308(g)(2) requires a summary of the emissions reductions achieved in the state through implementing measures described in 40 CFR 51.308(g)(1).

In its Progress Report, Florida evaluated the emissions reductions associated with the implementation of many measures identified in its regional haze plan, including the emissions reductions associated with sources subject to BART or reasonable progress control determinations. As described below, Florida included nitrogen oxides (NOX) and SO2 emissions data for EGUs in Florida from 2002-2013 and annual SO2 emissions data from point sources in the State from 2000-2013. In its regional haze plan, Florida states that ammonium sulfate is the largest contributor to visibility impairment in Class I areas throughout the southeastern United States during the baseline period from 2000-2004. Emissions sensitivity modeling performed by VISTAS determined that the most effective ways to reduce ammonium sulfate were to reduce SO2 emissions from coal-fired EGUs and, with an important but smaller impact, to reduce SO2 emissions from non-utility industrial point sources. SO2 reductions from point sources were therefore identified as the focus of Florida's long-term strategy for visibility improvement. In its Progress Report, Florida examined pollutants affecting visibility in Class I areas in Florida to ascertain whether it is still appropriate to focus on SO2 emissions to improve visibility in Class I areas impacted by sources in Florida. Using updated data for the 2006-2010 time period, the State concludes that ammonium sulfate continues to be the largest contributor to visibility impairment in these areas.

The data from EPA's Clean Air Markets Division included in the Progress Report for Acid Rain Program units from 2002-2013 show that SO2 emissions from EGUs in Florida and in the VISTAS region have declined during this time period even though heat input to these units remains fairly steady. See Figure 4-2 in Florida's submittal. Between 2002 and 2013, heat input to these units decreased from approximately 1,597,000,000 (million British Thermal Units) MMBtu to 1,548,000,000 MMBtu, a decrease of three percent. SO2 emissions from these units decreased from 466,904 tons annually in 2002 to 88,004 tons annually in 2013, a decrease of 81.2 percent, and the average SO2 emission rate from these units decreased from 0.603 pounds per MMBtu (lbs/MMBtu) in 2002 to 0.114 lbs/MMBtu in 2013, a decrease of 81.1 percent. Over the same time period, NOX emissions from these units decreased from 258,378 tons in 2002 to 54,398 tons in 2013, a decrease of 78.9 percent. Florida states that the SO2 and NOX emissions reductions are due to the installation of controls and the use of cleaner burning fuels. Florida also identifies the shut-down of eight BART sources and three reasonable progress sources.

Florida's Progress Report also includes SO2 and NOX emissions and heat input trends for Acid Rain Program units in the VISTAS region. See Figure 4-3 in Florida's submittal. Between 2002 and 2011, heat input to these units decreased from 7,645,295,464 MMBtu to 7,336,055,333 MMBtu, a decrease of four percent. SO2 emissions from these units decreased from 3,713,262 tons annually in 2002 to 1,166,572 tons annually in 2011, a decrease of 69.9 percent, and the average SO2 emission rate from these units decreased from 0.971 lbs/MMBtu in 2002 to 0.318 lbs/MMBtu in 2011, a decrease of 67.3 percent. Over the same time period, NOX emissions decreased from 1,498,143 tons in 2002 to 464,129 tons in 2011, a decrease of 69 percent.

Between 2009 and 2011, the total VISTAS states' heat input for Acid Rain Program units increased from 6,966,765,915 MMBtu to 7,336,055,333 MMBtu. However, emissions from these units declined from 1,619,348 tons of SO2 in 2009 to 1,166,572 tons of SO2 in 2011, and the emission rates of SO2 decreased from 0.465 lbs/MMBtu to 0.318 lbs/MMBtu.

Florida believes that the reductions in SO2 and NOX described above are a result of many factors, including permanent changes at EGUs through the use of control technology and fuel switching. In Florida and the VISTAS region, Florida concluded that these emissions reductions have been achieved even though heat input to these units remains fairly steady. Thus, the State believes that the visibility improvements from the reductions in SO2 and NOX should continue into the future even though demand for power and heat input to these units may have moderate increases.

EPA proposes to conclude that Florida has adequately addressed 40 CFR 51.308(g)(2). As discussed above, the State provides emissions reduction estimates, and where available, actual emissions reductions of visibility-impairing pollutants resulting from the measures relied upon in its regional haze plan. The State appropriately focused on SO2 emissions from EGUs in its Progress Report because the State had previously identified these emissions as the most significant contributors to visibility impairment at Florida's Class I areas and those Class I areas that Florida sources impact.

3. Visibility Progress

40 CFR 51.308(g)(3) requires that states with Class I areas provide the following information for the most impaired and least impaired days for each area, with values expressed in terms of five-year averages of these annual values: ³

³ The “most impaired days” and “least impaired days” in the Regional Haze Rule refers to the average visibility impairment (measured in deciviews) for the twenty percent of monitored days in a calendar year with the highest and lowest amount of visibility impairment, respectively, averaged over a five-year period. 40 CFR 51.301.

(i) Current visibility conditions;

(ii) the difference between current visibility conditions and baseline visibility conditions; and

(iii) the change in visibility impairment over the past five years.

The State provides figures with the latest supporting data available at the time of plan development that address the three requirements of 40 CFR 51.308(g)(3) for Class I areas in Florida. Table 1, below, shows the current visibility conditions and the difference between current visibility conditions and baseline visibility conditions. Florida reported current conditions as the 2009-2013 five-year period and used the 2000-2004 baseline period for its Class I areas.⁴

⁴ For the first regional haze plan, “baseline” conditions were represented by the 2000-2004 time period. See 64 FR 35730 (July 1, 1999).

Table 1—Baseline Visibility, Current Visibility, and Visibility Changes in Class I Areas in Florida
Class I area | Baseline average (2000-2004) | Current average (2009-2013) | Change (current- baseline)
20% Worst Days:
Chassahowitzka | 25.75 | 21.33 | −4.42
Everglades | 22.30 | 18.14 | −4.16
St. Marks | 26.31 | 22.22 | −4.09
20% Best Days:
Chassahowitzka | 15.51 | 13.74 | −1.77
Everglades | 11.69 | 11.21 | −0.48
St. Marks | 14.37 | 13.33 | −1.04

The data summarized above shows that all Class I areas in the State saw an improvement in visibility (i.e., reduced impairment) on the 20 percent worst days and on the 20 percent best days. For the 20 percent worst days, the current observed five-year average values for all three areas are below the 2013 glide path values and the corresponding 2018 RPG. See Table 3-1 in Florida's submittal. For the 20 percent best days, the current observed five-year average values for all three areas are below baseline visibility conditions. Florida's submittal also includes the change in visibility impairment for the 20 percent worst and 20 percent best days from the 2001-2005 time period through the 2009-2013 time period in five-year average increments. See Table 3-2 of Florida's submittal. The data also shows that all three Class I areas saw an improvement in visibility on the 20 percent worst days and on the 20 percent best days.

EPA proposes to conclude that Florida has adequately addressed 40 CFR 51.308(g)(3) because the State provides the information regarding visibility conditions and visibility changes necessary to meet the requirements of the regulation. The Progress Report includes current conditions based on the Interagency Monitoring of Protected Visual Environments (IMPROVE) monitoring data for the years 2009-2013, the difference between current visibility conditions and baseline visibility conditions, and the change in visibility impairment over the most recent five-year period for which data were available at the time of Progress Report development (i.e., 2009-2013).

4. Emission Tracking

40 CFR 51.308(g)(4) requires an analysis tracking emissions changes of visibility-impairing pollutants from the state's sources by type or category over the past five years based on the most recent updated emissions inventory.

In its Progress Report, Florida includes an analysis tracking the change over a five-year period in emissions of pollutants contributing to visibility impairment from the following source categories: point, area, non-road mobile, and on-road mobile. The State evaluated emissions trends in SO2, NOX, and fine particulate matter (PM2.5) with a focus on SO2 because, as noted above, Florida concludes that ammonium sulfate continues to be the largest contributor to visibility impairment in Class I areas in Florida.

In its evaluation of NOX, PM2.5, and SO2 emissions trends, Florida used the 2002 actual and 2009 and 2018 projected inventories from its regional haze plan as well as the Southeastern Modeling, Analysis, and Planning Project (SEMAP) 2007 actual emissions inventory, the 2011 National Emissions Inventory (NEI) actual emissions inventory, and the State's Annual Operation Report point source data collected each year. See Tables 4-1 through 4-3 in Florida's submittal. For NOX emissions, there were large decreases in point and area emissions and some increases in on-road mobile emissions in 2007. The State asserts that the decreases in point source NOX were due to emissions controls that were installed and that the decrease in area source NOX is primarily due to the removal of coal and wood combustion boilers from the area source inventory to avoid double counting with the point source category. Florida also believes that the increase in on-road mobile NOX is due to the use of the MOVES2010a model, rather than MOBILE6.2, for the 2007 inventory. If a consistent on-road model had been used for 2002, 2007, and 2009, the SEMAP 2007 NOX emissions would have been lower than the VISTAS 2002 actual and VISTAS 2009 projected emissions. However, NOX emissions have continued to decline between 2002 and 2011 by over 370,000 tons. Regarding PM2.5, the 2007 SEMAP and 2011 NEI PM2.5 emissions are different from the VISTAS emissions due to methodology changes to reflect up-to-date emission calculations. For example, Florida believes that the increase in on-road mobile PM2.5 is due to the switch in model used. Regardless, overall PM2.5 emissions have decreased slightly between 2002 and 2011. Regarding SO2, the inventory analysis shows that overall emissions have decreased significantly from 2002 to 2011, with point source reductions dominating. Florida's Progress Report also evaluates the trend from 2000 through 2013 in SO2 point source emissions, demonstrating a decrease of over 480,000 tons during this time period. See Figure 4-1 in Florida's submittal.

Also, as discussed in section III.A.2. of this notice, the Progress Report documents reductions in NOX and SO2 emissions that occurred between 2002-2013 at EGUs in Florida. The State believes that these reductions are a result of permanent changes at EGUs in the State through the use of control technology, fuel switching, and the shut-down of eight BART sources and three reasonable progress sources.

EPA proposes to conclude that Florida has adequately addressed 40 CFR 51.308(g)(4). Florida tracked changes in emissions of visibility-impairing pollutants from 2002-2011 for all source categories and analyzed trends in SO2 and NOX emissions from EGUs in the State from 2002-2013, the most current quality-assured data available for these units at the time of progress report development. While ideally the five-year period to be analyzed for emissions inventory changes is the time period since the current regional haze plan was submitted, there is an inevitable time lag in developing and reporting complete emissions inventories once quality-assured emissions data becomes available. Therefore, EPA believes that there is some flexibility in the five-year time period that states can select.

5. Assessment of Changes Impeding Visibility Progress

40 CFR 51.308(g)(5) requires an assessment of any significant changes in anthropogenic emissions within or outside the state that have occurred over the past five years that have limited or impeded progress in reducing pollutant emissions and improving visibility in Class I areas impacted by the state's sources.

The Progress Report demonstrates that there are no significant changes in emissions of SO2, PM, or NOX that have impeded progress in reducing emissions and improving visibility in Class I areas impacted by Florida sources. As discussed above, Florida documents that sulfates continue to be the biggest single contributor to regional haze in Class I areas in the State and focused its analysis on addressing large SO2 emissions from point sources. In addressing the requirements of 40 CFR 51.308(g)(5), Florida references its analysis showing that SO2 emissions from stationary point sources have decreased significantly from 2002 to 2013 and are well below the projections for these sources made in Florida's regional haze plan. Regarding EGUs, the State documented significant decreases in SO2 emissions despite the fact that power generation has remained fairly constant during the same period. Furthermore, the Progress Report shows that the State is on track to meeting its 2018 RPGs for Class I areas in Florida. For these reasons, EPA proposed to conclude that Florida's Progress Report has adequately addressed 40 CFR 51.308(g)(5).

6. Assessment of Current Strategy

40 CFR 51.308(g)(6) requires an assessment of whether the current regional haze plan is sufficient to enable the state, or other states, to meet the RPGs for Class I areas affected by emissions from the state.

In its Progress Report, Florida states its belief that the elements and strategies outlined in its regional haze plan are sufficient for Class I areas impacted by emissions sources in Florida to meet their RPGs. To support this conclusion, Florida notes the following: Speciated data collected for the period 2006-2010 shows that sulfates continue to be the most significant contributor to visibility impairment, supporting SO2 reduction as the appropriate control strategy; the SO2 controls in the State's regional haze plan have been implemented; a 71 percent reduction in the overall SO2 emissions inventory from 2002 through 2011 verifies that Florida's SO2 reduction program is achieving the reductions that were projected in the regional haze plan; current visibility impairment values for the 20 percent worst days are lower than the 2018 RPGs and lower than the 2013 glide path values for the Class I areas in Florida; current visibility impairment values for the 20 percent best days are below baseline visibility conditions for all Class I areas in Florida; and visibility data through 2010 show that the 2010 five-year average visibility impairment on the 20 percent worst days in the three Class I areas outside of the State impacted by emissions sources in Florida is at or below the glide path.

EPA proposes to conclude that Florida has adequately addressed 40 CFR 51.308(g)(6). EPA views this requirement as a qualitative assessment that should evaluate emissions and visibility trends and other readily available information, including expected emissions reductions associated with measures with compliance dates that have not yet become effective. The State referenced the improving visibility trends and the downward emissions trends in the State, with a focus on SO2 emissions from Florida EGUs. These trends support the State's determination that the State's regional haze plan is sufficient to meet RPGs for Class I areas within and outside the State impacted by Florida sources.

7. Review of Current Monitoring Strategy

40 CFR 51.308(g)(7) requires a review of the state's visibility monitoring strategy and an assessment of whether any modifications to the monitoring strategy are necessary.

In its Progress Report, Florida summarizes the existing visibility monitoring network in Class I areas in Florida and notes that the Interagency Monitoring of Protected Visual Environments (IMPROVE) monitoring network is the primary monitoring network for regional haze. There is currently one IMPROVE site in each Florida Class I area (SAMA1, CHAS1, and EVER1) operated by the responsible Federal Land Manager. Florida intends to continue to rely on the IMPROVE network for complying with regional haze monitoring requirements and on the Visibility Information and Exchange Web System (VIEWS) to access IMPROVE data and data analysis tools. Florida concludes that the existing network is adequate and that no modifications to the State's visibility monitoring strategy are necessary at this time.

EPA proposes to conclude that Florida has adequately addressed the sufficiency of its monitoring strategy as required by 40 CFR 51.308(g)(7). The State reaffirmed its continued reliance upon the IMPROVE monitoring network, explained the importance of the IMPROVE monitoring network for tracking visibility trends in Class I areas in Florida, and determined that no changes to its visibility monitoring strategy are necessary.

B. Determination of Adequacy of Existing Regional Haze Plan

Under 40 CFR 51.308(h), states are required to take one of four possible actions based on the information gathered and conclusions made in the progress report. The following section summarizes: (1) The action taken by Florida under 40 CFR 51.308(h); (2) Florida's rationale for the selected action; and (3) EPA's analysis and proposed determination regarding the State's action.

In its Progress Report, Florida took the action provided for by 40 CFR 51.308(h)(1), which allows a state to submit a negative declaration to EPA if the state determines that the existing regional haze plan requires no further substantive revision at this time to achieve the RPGs for Class I areas affected by the state's sources. The State's negative declaration is based on its findings in the Progress Report. EPA proposes to conclude that Florida has adequately addressed 40 CFR 51.308(h) because the visibility trends at the Class I areas impacted by the State's sources and the emissions trends of the State's largest emitters of visibility-impairing pollutants indicate that the RPGs for Class I areas impacted by sources in Florida will be met or exceeded.

IV. What action is EPA proposing to take?

EPA is proposing to approve Florida's Regional Haze Progress Report, SIP revision, submitted by the State on March 10, 2015, as meeting the applicable regional haze requirements set forth in 40 CFR 51.308(g) and 51.308(h).

V. Statutory and Executive Order Reviews

Under the CAA, the Administrator is required to approve a SIP submission that complies with the provisions of the Act and applicable federal regulations. See 42 U.S.C. 7410(k); 40 CFR 52.02(a). Thus, in reviewing SIP submissions, EPA's role is to approve state choices, provided that they meet the criteria of the CAA. Accordingly, this proposed action merely proposes to approve state law as meeting federal requirements and does not impose additional requirements beyond those imposed by state law. For that reason, this proposed action:

• Is not a significant regulatory action subject to review by the Office of Management and Budget under Executive Orders 12866 (58 FR 51735, October 4, 1993) and 13563 (76 FR 3821, January 21, 2011);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

List of Subjects in 40 CFR Part 52

Environmental protection, Air pollution control, Incorporation by reference, Intergovernmental relations, Nitrogen oxides, Particulate matter, Reporting and recordkeeping requirements, Sulfur dioxide, Volatile organic compounds.

Authority: 42 U.S.C. 7401 et seq.

Dated: May 12, 2016.
Heather McTeer Toney,
Regional Administrator, Region 4.

[FR Doc. 2016-12113 Filed 5-23-16; 8:45 am]

BILLING CODE 6560-50-P